DEPARTMENT OF LABOR

Employment and Training Administration

[TA-W-81,547]

Joerns Healthcare, LLC, Stevens Point, Wisconsin Division, Including On-Site Leased Workers From ABR, Aerotek, and Manpower, Stevens Point, WI; Amended Certification Regarding Eligibility To Apply for Worker Adjustment Assistance

In accordance with Section 223 of the Trade Act of 1974, as amended (“Act”), 19 U.S.C. 2273, the Department of Labor issued a Certification of Eligibility to Apply for Worker Adjustment Assistance on May 16, 2012, applicable to workers of Joerns Healthcare, LLC, Stevens Point, Wisconsin Division, Stevens Point, Wisconsin, including on-site leased workers from ABR, Aerotek, and Manpower. The Department's notice of determination was published in the Federal Register on June 6, 2012 (77 FR 33493).

At the request of a state workforce official, the Department reviewed the certification for workers of the subject firm. The workers were engaged in steel bed frames and accessories for the medical industries.

The company reports that workers leased from Manpower were employed on-site at the Stevens Point, Wisconsin location of Joerns Healthcare, LLC, Stevens Point, Wisconsin Division, including on-site leased workers from ABR and Aerotek. The Department has determined that these workers were sufficiently under the control of the subject firm to be considered leased workers.

Based on these findings, the Department is amending this certification to include workers leased from Manpower working on-site at the Stevens Point, Wisconsin location of the subject firm.

The amended notice applicable to TA-W-81,547 is hereby issued as follows:

All workers of Manpower, reporting to Joerns Healthcare, LLC, Stevens Point, Wisconsin Division, including on-site leased workers from ABR and Aerotek, Stevens Point, Wisconsin who became totally or partially separated from employment on or after April 25, 2011 through May 16, 2014, and all workers in the group threatened with total or partial separation from employment on the date of certification through two years from the date of certification, are eligible to apply for adjustment assistance under Chapter 2 of Title II of the Trade Act of 1974, as amended.

Signed in Washington, DC, this July 13, 2012.
Michael W. Jaffe,
Certifying Officer, Office of Trade Adjustment Assistance.

[FR Doc. 2012-17997 Filed 7-23-12; 8:45 am]

BILLING CODE 4510-FN-P